SECURITIES AND EXCHANGE COMMISSION

[Release No. 34-43155; File No. SR-NYSE-00-32]

Self-Regulatory Organizations; Notice of Extension of the Comment Period for the Proposed Rule Change by the New York Stock Exchange, Inc. To Extend the Pilot Relating to Shareholder Approval of Stock Option Plans

August 15, 2000.

On July 13, 2000, the New York Stock Exchange, Inc. (“NYSE” or “Exchange”) filed with the Securities and Exchange Commission (“SEC” or “Commission”), a proposed rule change, pursuant to section 19(b)(1) ¹ of the Securiites Exchange Act of 1934 (“Act”) and Rule 19b-4 thereunder,² to extend the effectiveness of amendments to Sections 312.01, 312.03, and 312.04 of the Exchange's Listed Company Manual with respect to the definition of what constitutes a “broadly-based” stock options plan. The Commission approved the amendments on a pilot basis on June 4, 1999 (“Pilot”).³ The Pilot is scheduled to expire on September 30, 2000. The Exchange has proposed to extend the effectiveness of the Pilot until September 30, 2003. A complete description of the proposed rule change is found in the notice of filing, which was published in the Federal Register on August 10, 2000.⁴

¹ 15 U.S.C. 78s(b)(1).

² 17 CFR 240.19b-4.

³ See Securities Exchange Act Release No. 41479, 64 FR 31667 (June 11, 1999).

⁴ See Securities Exchange Act Release No. 43111, (August 2, 2000), 65 FR 49046.

In response to the solicitation of comments, the Commission received a request to extend the comment period. Given the public's interest in the proposed rule change and the Commission's desire to give the public sufficient time to consider the proposal, the Commission has decided to extend the comment period pursuant to section 19(b)(2) of the Act.⁵ Further, the Commission notes that the Exchange has consented to the extension of the comment period.⁶ Accordingly, the comment period shall be extended until September 20, 2000.

⁵ 15 U.S.C. 78s(b)(2).

⁶ See letter from Elena L. Daly, Assistant General Counsel, NYSE to Kelly Riley, Division of Market Regulation, SEC, dated August 11, 2000.

Interested persons are invited to submit written data, views, and arguments concerning the foregoing, including whether the proposed rule change is consistent with the Act. Persons making written submissions should file six copies thereof with the Secretary, Securities and Exchange, Commission, 450 Fifth Street, NW., Washington, DC 20549-0609. Copies of the submission, all subsequent amendments, all written statements with respect to the proposed rule change that are filed with the Commission, and all written communications relating to the proposed rule change between the Commission and any person, other than those that may be withheld from the public in accordance with the provisions of 5 U.S.C. 552, will be available for inspection and copying in the Commission's Public Reference Room. Copies of such filing will also be available for inspection and copying at the principal office of the NYSE. All submissions should refer to File No. SR-NYSE-00-32 and should be submitted by September 20, 2000.

For the Commission, by the Division of Market Regulation, pursuant to delegated authority.⁷

⁷ 17 CFR 200.30-(a)(12).

Margaret H. McFarland,
Deputy Secretary.

[FR Doc. 00-21436 Filed 8-22-00; 8:45 am]

BILLING CODE 8010-01-M